DEPARTMENT OF HEALTH AND HUMAN SERVICES

National Institutes of Health

National Institute on Aging; Notice of Meeting

Pursuant to section 10(d) of the Federal Advisory Committee Act, as amended, notice is hereby given of a meeting of the Board of Scientific Counselors, NIA.

The meeting will be open to the public as indicated below, with attendance limited to space available. Individuals who plan to attend and need special assistance, such as sign language interpretation or other reasonable accommodations, should notify the Contact Person listed below in advance of the meeting.

The meeting will be closed to the public as indicated below in accordance with the provisions set forth in sections 552b(c)(4) and 552b(c)(6), Title 5 U.S.C., as amended for the review, discussion, and evaluation of individual intramural programs and projects conducted by the NATIONAL INSTITUTE ON AGING, including consideration of personnel qualifications and performance, and the competence of individual investigators, the disclosure of which would constitute a clearly unwarranted invasion of personal privacy.

Name of Committee: Board of Scientific Counselors, NIA.

Date: October 19-21, 2021.

Closed: October 19, 2021, 9:00 a.m. to 9:45 a.m.

Agenda: To review and evaluate personnel qualifications and performance, and competence of individual investigators.

Place: National Institute on Aging, Biomedical Research Center, 3rd Floor, Conference Room 03C227, 251 Bayview Boulevard, Baltimore, MD 21224 (Virtual Meeting).

Open: October 19, 2021, 9:45 a.m. to 12:45 p.m.

Agenda: Committee discussion, individual presentations, laboratory overview.

Place: National Institute on Aging, Biomedical Research Center, 3rd Floor, Conference Room 03C227, 251 Bayview Boulevard, Baltimore, MD 21224 (Virtual Meeting).

Closed: October 19, 2021, 12:45 p.m. to 1:30 p.m.

Agenda: To review and evaluate personnel qualifications and performance, and competence of individual investigators.

Place: National Institute on Aging, Biomedical Research Center, 3rd Floor, Conference Room 03C227, 251 Bayview Boulevard, Baltimore, MD 21224 (Virtual Meeting).

Open: October 19, 2021, 1:30 p.m. to 3:30 p.m.

Agenda: Committee discussion, individual presentations, laboratory overview.

Place: National Institute on Aging, Biomedical Research Center, 3rd Floor, Conference Room 03C227, 251 Bayview Boulevard, Baltimore, MD 21224 (Virtual Meeting).

Closed: October 19, 2021, 3:30 p.m. to 5:30 p.m.

Agenda: To review and evaluate committee discussion, individual presentations, laboratory overview.

Place: National Institute on Aging, Biomedical Research Center, 3rd Floor, Conference Room 03C227, 251 Bayview Boulevard, Baltimore, MD 21224 (Virtual Meeting).

Closed: October 20, 2021, 9:00 a.m. to 9:15 a.m.

Agenda: To review and evaluate personnel qualifications and performance, and competence of individual investigators.

Place: National Institute on Aging, Biomedical Research Center, 3rd Floor, Conference Room 03C227, 251 Bayview Boulevard, Baltimore, MD 21224 (Virtual Meeting).

Open: October 20, 2021, 9:15 a.m. to 10:45 a.m.

Agenda: Committee discussion, individual presentations, laboratory overview.

Place: National Institute on Aging, Biomedical Research Center, 3rd Floor, Conference Room 03C227, 251 Bayview Boulevard, Baltimore, MD 21224 (Virtual Meeting).

Closed: October 20, 2021, 10:45 a.m. to 3:00 p.m.

Agenda: To review and evaluate personnel qualifications and performance, and competence of individual investigators.

Place: National Institute on Aging, Biomedical Research Center, 3rd Floor, Conference Room 03C227, 251 Bayview Boulevard, Baltimore, MD 21224 (Virtual Meeting).

Closed: October 21, 2021, 9:00 a.m. to 9:15 a.m.

Agenda: To review and evaluate personnel qualifications and performance, and competence of individual investigators.

Place: National Institute on Aging, Biomedical Research Center, 3rd Floor, Conference Room 03C227, 251 Bayview Boulevard, Baltimore, MD 21224 (Virtual Meeting).

Open: October 21, 2021, 9:15 a.m. to 10:45 a.m.

Agenda: Committee discussion, individual presentations, laboratory overview.

Place: National Institute on Aging, Biomedical Research Center, 3rd Floor, Conference Room 03C227, 251 Bayview Boulevard, Baltimore, MD 21224 (Virtual Meeting).

Closed: October 21, 2021, 10:45 a.m. to 12:30 p.m.

Agenda: To review and evaluate committee discussion, individual presentations, laboratory overview.

Place: National Institute on Aging, Biomedical Research Center, 3rd Floor, Conference Room 03C227, 251 Bayview Boulevard, Baltimore, MD 21224 (Virtual Meeting).

Contact Person: Luigi Ferrucci, MD, Ph.D., Scientific Director, National Institute on Aging, 251 Bayview Boulevard, Suite 100, Room 4C225, Baltimore, MD 21224, 410-558-8110, LF27Z@NIH.GOV.

This notice is being published less than 15 days prior to the meeting due to the timing limitations imposed by the review and funding cycle.

(Catalogue of Federal Domestic Assistance Program Nos. 93.866, Aging Research, National Institutes of Health, HHS)

Dated: October 13, 2021.
Miguelina Perez,
Program Analyst, Office of Federal Advisory Committee Policy.

[FR Doc. 2021-22641 Filed 10-15-21; 8:45 am]

BILLING CODE 4140-01-P